DEPARTMENT OF HEALTH AND HUMAN SERVICES

National Institutes of Health

National Institute on Drug Abuse; Amended Notice of Meeting

Notice is hereby given of a change in the meeting of the Training and Career Development Subcommittee, November 14, 2007, 9 a.m. to November 16, 2007, 5 p.m., Double Tree Hotel & Executive Meeting Center, 8120 Wisconsin Ave., Bethesda, MD 20814 which was published in the Federal Register on September 17, 2007, Volume 72, # 179.

The date of the meeting was changed to November 13-16, 2007. The meeting is closed to the public.

Dated: October 22, 2007.
Jennifer Spaeth,
Director, Office of Federal Advisory Committee Policy.

[FR Doc. 07-5309 Filed 10-25-07; 8:45 am]

BILLING CODE 4140-01-M